DEPARTMENT OF AGRICULTURE

Rural Housing Service

Notice of Request for Extension of a Currently Approved Information Collection

AGENCY: Rural Housing Service, USDA.

ACTION: Proposed collection; comments requested.

SUMMARY: In accordance with the Paperwork Reduction Act of 1995, this notice announces the Rural Housing Service's intention to request an extension for a currently approved information collection in support of Servicing Cases Where Unauthorized Loan or Other Financial Assistance Was Received—Multiple Family Housing.

DATES: Comments on this notice must be received by May 17, 2004, to be assured of consideration.

FOR FURTHER INFORMATION CONTACT: Janet Stouder, Deputy Director, Multi-Family Housing Portfolio Management Division, Rural Housing Service, STOP 0782, Room 1245, 1400 Independence Avenue, SW., Washington, DC 20250-0782.

SUPPLEMENTARY INFORMATION: Title: Servicing Cases Where Unauthorized Loan or Other Financial Assistance Was Received—Multiple Family Housing.

OMB Number: 0575-0104.

Expiration Date of Approval: September 30, 2004.

Type of Request: Extension of currently approved information collection.

Abstract: The regulation promulgates the policies and procedures for actions to be taken in cases where unauthorized financial assistance in the form of a loan, grant, interest subsidy benefit created through use of an incorrect interest rate, interest credits, or rental assistance has been extended to a Multiple Family Housing borrower or grantee by the Rural Housing Service (RHS).

Estimate of Burden: Public reporting burden for this collection of information is estimated to average 1.14 hours per response.

Respondents: Individuals, State or local governments, and small businesses or organizations.

Estimated Number of Respondents: 700.

Estimated Number of Responses per Respondent: 1.

Estimated Number of Responses: 700.

Estimated Total Annual Burden on Respondents: 800 hours.

Copies of this information collection can be obtained from Tracy Givelekian, Regulations and Paperwork Management Branch, at (202) 692-0039.

Comments: Comments are invited on: (a) Whether the proposed collection of information is necessary for the proper performance of the functions of RHS, including whether the information will have practical utility; (b) the accuracy of RHS' estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Tracy Givelekian, Regulations and Paperwork Management Branch, U.S. Department of Agriculture, STOP 0742, 1400 Independence Ave., SW., Washington, DC 20250-0742. All responses to this notice will be summarized and included in the request for OMB approval. All comments will also become a matter of public record.

Dated: March 9, 2004.
Arthur A. Garcia,
Administrator, Rural Housing Service.

[FR Doc. 04-6133 Filed 3-17-04; 8:45 am]

BILLING CODE 3410-XV-P